DEPARTMENT OF THE INTERIOR

Bureau of Land Management

[NDM 88114]

Proposed Jurisdictional Transfer; North Dakota

AGENCY: Bureau of Land Management, Interior.

ACTION: Notice.

SUMMARY: The Bureau of Land Management proposes to permanently transfer administrative jurisdiction of the surface only of 640 acres of public land to the U.S. Forest Service. The land is an isolated tract within the boundary of the Medora Ranger District of the Little Missouri National Grasslands, U.S. Forest Service and can be more effectively and efficiently managed by the Forest Service. This notice closes the land for up to 2 years from settlement, sale, location or entry under all of the general public land laws, including the United States mining laws. The land has been and will remain open to mineral leasing.

EFFECTIVE DATE: Comments must be received by December 26, 2002.

ADDRESSES: Comments should be sent to the State Director, Bureau of Land Management, Montana State Office, PO Box 36800, Billings, Montana 59107-6800.

FOR FURTHER INFORMATION CONTACT: Douglas Burger, BLM North Dakota Field Office, 2933 Third Ave. West, Dickinson, North Dakota 58601-2619, or Deborah Sorg, BLM Montana State Office, PO Box 36800, Billings, Montana 59107-6800, 406-896-5045.

SUPPLEMENTARY INFORMATION: The U.S. Forest Service has filed an application to transfer jurisdiction of the following described public land from all forms of appropriation under the general land laws, including the mining laws, subject to valid existing rights, for the Medora Ranger District of the Little Missouri National Grasslands:

Fifth Principal Meridian, North Dakota

T. 141 N., R. 101 W.,

Sec. 10, all.

The area described contains 640.00 acres in Billings County.

The Bureau of Land Management has determined that the public land within the boundary of the Dakota Prairie Grasslands would be more efficiently and effectively managed by the Forest Service.

All persons who wish to submit comments, suggestions, or objections in connection with the proposed transfer of jurisdiction may present their views in writing to the Montana State Office of the Bureau of Land Management at the above address.

The application will be processed in accordance with the regulations set forth in 43 CFR 2300.

For a period of 2 years from the date of publication of this notice in the Federal Register, the land will be segregated as specified above unless the application is denied or canceled or the jurisdictional transfer is approved prior to that date.

Dated: August 22, 2002.
Howard A. Lemm,
Acting Deputy State Director, Division of Resources.

[FR Doc. 02-24462 Filed 9-25-02; 8:45 am]

BILLING CODE 3410-11-P